Proclamation 10831 of October 4, 2024

National Community Policing Week, 2024

By the President of the United States of America

A Proclamation

Every day that our police officers put on that shield and walk out the door, they put their lives at risk to ensure the rest of us are safe. During National Community Policing Week, we honor police officers' service and sacrifice, recommit to supporting them, and reaffirm that community policing practices that advance public trust are the gold standard for law enforcement.

In the first half of this year, according to preliminary data submitted to the FBI, the homicide rate continued to fall at record speed, declining by 22.7 percent, while the violent crime rate fell by 10.3 percent to its lowest level since 1969. These record decreases follow the historic declines in crime in 2023, including the largest-ever decrease in the homicide rate. The decreases are in no small part due to the hard work and courageous efforts of law enforcement across America.

As President, public safety and crime reduction are top priorities for my Administration and me. Since day one, my Administration has worked with law enforcement, mayors, and community leaders to do what we know works to keep people and communities safe. Through my American Rescue Plan, we made the largest Federal investment toward public safety in our Nation's history—delivering more than $15 billion in aid for local and State governments to keep law enforcement on the beat, retain and hire more police officers, pay overtime and bonuses, and expand benefits for disabled first responders. States, counties, and cities have already invested that funding to make their communities safer, and we added billions more in grants through the Department of Justice to help cities invest in law enforcement and community violence interruption programs.

I also know that being in law enforcement today is harder than ever—police are expected to respond to so many challenging situations, from drug overdoses and mental health crises to domestic violence, child abandonment, and more. That is why my Administration has invested in increasing the number of crisis responders who work alongside police officers to respond to non-violent crimes. We have made more investments in recruiting, retaining, and training officers. I have called for funding that would put 100,000 more officers on the street who are trained in community policing. Additionally, we need to invest more in technology and training to solve crimes faster and clear court backlogs, and we need more detectives to solve murders and more deputy United States Marshals to apprehend fugitives.

Police officers deal with unbelievable stress. Every time an officer responds to a call, executes a warrant, or conducts a traffic stop, there is a tremendous risk: the fear of ambush, the anxiety of not knowing what is behind that door, and the trauma of bearing witness to the most horrible tragedies imaginable. That is why I have been laser-focused on providing officers with the mental health and wellness resources they need and deserve. I also signed extended benefits for families of officers who have tragically died by suicide.

Our police officers are dedicated, honorable, and good people—they build trust with the communities they serve because they know that trust is the foundation of public safety. Our communities are safer and stronger when our officers have the resources, training, and tools they need to do their jobs and walk the beat, getting to know the neighborhoods and the people they serve. A lack of trust from the public means less public safety for all of us: crimes do not get reported, witnesses do not come forward and cases do not get solved, victims suffer while perpetrators roam free, and justice goes undelivered.

When communities trust the police, crimes get solved faster. That is why when Republicans blocked the passage of the George Floyd Justice in Policing Act of 2021, a bill that the Vice President coauthored while in the Senate, we took action. I signed a historic Executive Order to set the gold standard for law enforcement. In part, it requires Federal law enforcement agencies to develop best practices that attract, support, and retain officers who are representative of the communities they are sworn to serve. We have also made historic investments in proven strategies to interrupt and prevent violence in the first place, including using trusted messengers who are trained to disrupt violence. At the same time, I signed the most significant gun safety law in nearly three decades and have taken more executive actions to stop the flow of illegal guns than any other administration in history.

There is more work to be done. My Safer America Plan calls on the Congress to invest $37 billion to support law enforcement and crime prevention. The plan would fund 100,000 additional police officers, invest $5 billion in community violence interventions, and enact commonsense gun safety reforms, such as a universal background check requirement and a ban on assault weapons and high-capacity magazines.

There is no greater responsibility than keeping our families, neighborhoods, and Nation safe. During National Community Policing Week, we reaffirm our commitment to choosing progress over politics when it comes to supporting our law enforcement and ensuring the safety of our communities. We honor the heroism, bravery, and sacrifice of our police officers. And may we recommit to upholding one of our Nation's most fundamental values: justice for all.

NOW, THEREFORE, I, JOSEPH R. BIDEN JR., President of the United States of America, by virtue of the authority vested in me by the Constitution and the laws of the United States, do hereby proclaim October 6 through October 12, 2024, as National Community Policing Week. I call upon law enforcement agencies, elected officials, and all Americans to observe this week by recognizing ways to improve public safety, build trust, and strengthen community-police relationships.

IN WITNESS WHEREOF, I have hereunto set my hand this fourth day of October, in the year of our Lord two thousand twenty-four, and of the Independence of the United States of America the two hundred and forty-ninth.

[FR Doc. 2024-23456

Filed 10-8-24; 8:45 am]

Billing code 3395-F4-P